FEDERAL RESERVE SYSTEM

Agency Information Collection Activities: Announcement of Board Approval Under Delegated Authority and Submission to OMB

AGENCY: Board of Governors of the Federal Reserve System

.

ACTION: Notice.

SUMMARY: Background.

Notice is hereby given of the final approval of proposed information collections by the Board of Governors of the Federal Reserve System (Board) under OMB delegated authority, as per 5 CFR 1320.16 (OMB Regulations on Controlling Paperwork Burdens on the Public). Board-approved collections of information are incorporated into the official OMB inventory of currently approved collections of information. Copies of the OMB 83-I's and supporting statements and approved collection of information instruments are placed into OMB's public docket files. The Federal Reserve may not conduct or sponsor, and the respondent is not required to respond to, an information collection that has been extended, revised, or implemented on or after October 1, 1995, unless it displays a currently valid OMB control number.

FOR FURTHER INFORMATION CONTACT: Federal Reserve Board Clearance Officer--Cindy Ayouch--Division of Research and Statistics, Board of Governors of the Federal Reserve System, Washington, DC 20551 (202-452-3829); OMB Desk Officer--Joseph Lackey--Office of Information and Regulatory Affairs, Office of Management and Budget, New Executive Office Building, Room 10235, Washington, DC 20503.

SUPPLEMENTARY INFORMATION:

Final approval under OMB delegated authority to revise, without extension, the following reports:

Report title: Financial Statements for Bank Holding Companies

Agency form number: FR Y-9C, FR Y-9LP, FR Y-9SP, and FR Y-9CS

OMB Control number: 7100-0128

Frequency: Quarterly and semiannually

Reporters: Bank holding companies (BHC's)

Annual reporting hours: 321,581 hours

Estimated average hours per response: FR Y-9C: 33.98 hours, FR Y-9LP: 4.55 hours, FR Y-9SP: 3.89 hours, FR Y-9CS: 30 minutes, FR Y-9ES: 30 minutes

Number of respondents: FR Y-9C: 1,859, FR Y-9LP: 2,193, FR Y-9SP: 3,566, FR Y-9CS: 600; FR Y-9ES: 100

Small businesses are affected.

General description of report: This information collection is mandatory (12 U.S.C. 1844(c)). Confidential treatment is not routinely given to the data in these reports. However, confidential treatment for the reporting information, in whole or in part, can be requested in accordance with the instructions to the form.

Abstract: The FR Y-9C consists of standardized consolidated financial statements similar to the Federal Financial Institutions Examination Council (FFIEC) Consolidated Reports of Condition and Income (Call Reports) (FFIEC 031 & 041; OMB No.7100-0036). The FR Y-9C is filed quarterly by top-tier BHC's that have total assets of $150 million or more and by lower-tier BHC's that have total consolidated assets of $1 billion or more. In addition, multibank holding companies with total consolidated assets of less than $150 million with debt outstanding to the general public or engaged in certain nonbank activities must file the FR Y-9C.

The FR Y-9LP includes standardized financial statements filed quarterly on a parent company only basis from each BHC that files the FR Y-9C. In addition, for tiered BHC's, a separate FR Y-9LP must be filed for each lower tier BHC.

The FR Y-9SP is a parent company only financial statement filed semiannually by one-bank holding companies with total consolidated assets of less than $150 million, and multibank holding companies with total consolidated assets of less than $150 million that meet certain other criteria. This report, an abbreviated version of the more extensive FR Y-9LP, is designed to obtain basic balance sheet and income statement information for the parent company, information on intangible assets, and information on intercompany transactions.

The FR Y-9CS is a free form supplement that may be utilized to collect any additional information deemed to be critical and needed in an expedited manner. It is intended to supplement the FR Y-9C and FR Y-9SP reports.

Current actions: On July 30, 2002, the Federal Reserve published a notice soliciting comments for 60 days on proposed revisions to the Financial Statements for Bank Holding Companies (67 FR 49356). The notice described the Federal Reserve proposal to implement the Financial Statements for Employee Stock Ownership Plan Bank Holding Companies (FR Y-9ES). The Federal Reserve Board has approved the implementation of the FR Y-9ES report effective for December 31, 2002. The FR Y-9ES will be filed annually by BHC's that are Employee Stock Ownership Plans (ESOP's) that currently submit either the FR Y-9LP or the FR Y-9SP. The FR Y-9ES will be collected as of December 31 and submitted to the Federal Reserve by July 31.

The Federal Reserve received comments from three financial institutions in response to the initial Federal Register notice. All three commenters were in favor of adopting the FR Y-9ES citing reduction in burden and the collection of data more representative of the activities of an ESOP. The Federal Reserve specifically sought comment on the proposed deadline for the FR Y-9ES. One response specifically addressed the proposed filing extension beyond the July 31 deadline for those institutions that have been granted extension for filing their IRS/DOL Form 5500. The comment strongly recommended that adoption of the extension stating that institutions may be forced to estimate the data to meet the July 31 deadline and amend the report once Form 5500 was filed. The Federal Reserve has decided to grant extensions for respondents that send a copy of their IRS Form 5558 to the appropriate Reserve Bank by July 31.

Board of Governors of the Federal Reserve System, October 23, 2002.

Jennifer J. Johnson,
Secretary of the Board.

[FR Doc. 02-27522 Filed 10-29-02; 8:45 am]

BILLING CODE 6210-01-S